DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 03-007.

Applicant: U.S. Department of Agriculture, Agricultural Research Service, Pacific West Area, 800 Buchanan Street, Albany, CA 94710.

Instrument: Electron Microscope, Model Tecnai G ² 12 TWIN, G ² Upgrade, and Accessories.

Manufacturer: FEI Company, The Netherlands.

Intended Use: The instrument is intended to be used to study plant, insect and microbial viruses, and bacterial cells. Objectives to be pursued include:

(1) Verification or validation of the structural integrity of purified plant, insect and microbial viruses;

(2) Characterization of the structural properties of viruses in situ and in vitro and bacterial cells; and

(3) Characterization of the interaction(s) between bacterial cells and insect vector host tissues in insecta, and bacterial cells and plant host tissues in planta.

Application accepted by Commissioner of Customs: February 7, 2003.

Docket Number: 03-008.

Applicant: The Rockefeller University, 12230 York Avenue, New York, NY 10021.

Instrument: Electron Microscope, Model Tecnai G ² 12 BioTWIN.

Manufacturer: FEI Company, The Netherlands.

Intended Use: The instrument is intended to be used to explore the mechanisms governing development and differentiation in epidermis and hair of mammalian skin and to understand how these processes go awry in human genetic skin diseases.

Application accepted by Commissioner of Customs: February 12, 2003.

Gerald A. Zerdy,
Program Manager, Statutory Import Programs Staff.

[FR Doc. 03-4931 Filed 2-28-03; 8:45 am]

BILLING CODE 3510-DS-P